NUCLEAR REGULATORY COMMISSION

Agency Information Collection Activities: Submission for the Office of Management and Budget (OMB) Review; Comment Request; Correction

AGENCY: U. S. Nuclear Regulatory Commission (NRC).

ACTION: Notice of the OMB review of information collection and solicitation of public comment; correction.

SUMMARY: This document corrects a notice appearing in the Federal Register on June 18, 2008 (73 FR 34797) that incorrectly stated the number of annual responses for the information collection titled, “10 CFR Part 54, Requirements for Renewal of Operating Licenses for Nuclear Power Plants.” This action is necessary to correct erroneous information about public burden for this information collection.

SUPPLEMENTARY INFORMATION: On page 34797, in the third column, number 7, the estimate of the annual number of responses is changed from “10 (six Part 54 respondents plus four commitment completion letter respondents)” to “50 (6 Part 54 license renewal applications plus 4 commitment completion letters plus 40 recordkeepers).”

Dated at Rockville, Maryland, this 19th day of June, 2008.
For the Nuclear Regulatory Commission.
Gregory Trussell,
Acting NRC Clearance Officer, Office of Information Services.

[FR Doc. E8-14487 Filed 6-25-08; 8:45 am]

BILLING CODE 7590-01-P